DEPARTMENT OF THE INTERIOR

Fish and Wildlife Service

Fiscal Year 2006 Tribal Landowner Incentive Program; Request for Grant Proposals

AGENCY: Fish and Wildlife Service, Interior.

ACTION: Notice of request for proposals.

SUMMARY: We, the Fish and Wildlife Service (Service), are soliciting project proposals for Federal assistance under the Tribal Landowner Incentive Program (TLIP). The Department of the Interior and Related Agencies Appropriations Act for Fiscal Year (FY) 2006 allocated $23,886,000 (subject to potential rescission to meet other important national priorities) from the Land and Water Conservation Fund for conservation grants to States, the District of Columbia, Puerto Rico, Guam, the United States Virgin Islands, the Northern Mariana Islands, American Samoa, and Tribes under a Landowner Incentive Program. The Service has targeted $2,388,600 for TLIP.

DATES: Project proposals must be postmarked by January 31, 2006 and submitted to the appropriate Regional Office (see Table 1 in ADDRESSES).

ADDRESSES: For information regarding collection requirements and application kit, applicants should contact the Native American Liaison in the Service's Regional Office for the State in which the proposed project would occur. The contact information for each Regional Office is listed in Table 1 below. Information on the TLIP is also available from the U.S. Fish and Wildlife Service, Office of the Native American Liaison, 1849 C Street, NW., Mail Stop 3251, Washington, DC 20240, and electronically at http://grants.fws.gov/tribal.html.

Project proposals should be submitted to the Service's Regional Office for the State in which the proposed project would occur (see Table 1 under this section). You must submit one original and two copies of the complete proposal. We will not accept facsimile project proposals.

Table 1.—Where To Send Project Proposals and List of Regional Contacts
Service region | States where the project will occur | Where to send your project proposal | Regional Native American liaison and phone number
Region 1 | Hawaii, Idaho, Oregon, Washington, Nevada, and California | Regional Director; U.S. Fish and Wildlife Service, Eastside Federal Complex, 911 N.E. 11th Avenue, Portland, OR 97232-4181 | Scott L. Aikin (503) 231-6123
Region 2 | Arizona, New Mexico, Oklahoma, and Texas | Regional Director; U.S. Fish and Wildlife Service, 500 Gold Avenue, SW., P.O. Box 1306, Albuquerque, NM 87103-1306 | John Antonio (505) 248-6810
Region 3 | Illinois, Indiana, Iowa, Michigan, Minnesota, Missouri, Ohio, and Wisconsin | Regional Director; U.S. Fish and Wildlife Service, 1 Federal Drive, Fort Snelling, MN 55111-4080 | John Leonard (612) 713-5108
Region 4 | Alabama, Arkansas, Florida, Georgia, Kentucky, Louisiana, Mississippi, North Carolina, South Carolina, and Tennessee | Regional Director; U.S. Fish and Wildlife Service, 1875 Century Blvd, Rm. 410, Atlanta, GA 30345 | Kyla Hastie (404) 679-7133
Region 5 | Connecticut, Delaware, District of Columbia, Maine, Maryland, Massachusetts, New Hampshire, New Jersey, New York, Pennsylvania, Rhode Island, Vermont, Virginia, and West Virginia | Regional Director; U.S. Fish and Wildlife Service, 300 Westgate Center Drive, Hadley, MA 01035-9589 | D.J. Monette (413) 253-8662
Region 6 | Colorado, Kansas, Montana, Nebraska, North Dakota, South Dakota, Utah, and Wyoming | Regional Director; U.S. Fish and Wildlife Service, 134 Union Boulevard, Suite 400, Lakewood, CO 80228 | David Redhorse (303) 236-4575
Region 7 | Alaska | Regional Director; U.S. Fish and Wildlife Service, 1011 East Tudor Road, Anchorage, AK 99503-6199 | Sue Detwiler (907) 786-3868

FOR FURTHER INFORMATION CONTACT: For further information, contact the Native American Liaison in the appropriate Regional Office (see Table 1 under ADDRESSES or Patrick Durham, Office of the Native American Liaison, U.S. Fish and Wildlife Service, 1849 C Street, Mail Stop 3012 MIB, Washington, DC 20240, (202) 208-4133.

Request for Proposals: The Service invites submission of grant proposals for the protection and management of habitat to benefit federally listed, proposed, or candidate species or other at-risk species from federally recognized Indian tribal governments (including Alaska Native Villages). This program supports the efforts of tribal governments in programs that develop or augment the capacity to manage, conserve, or protect fish and wildlife species of concern through the provision of funding and technical support.

For complete application guidelines, please refer to http://www.fws.gov/grants/tribal.html or contact the Native American Liaison in your Fish and Wildlife Service Region (see Table 1 in ADDRESSES). The Application Kit outlines program requirements, selection criteria, and award procedures.

Dated: October 24, 2005.
Paul Hoffman,
Acting Assistant Secretary, Fish and Wildlife and Parks.

[FR Doc. 05-21690 Filed 11-1-05; 8:45 am]

BILLING CODE 4310-55-M